DEPARTMENT OF HEALTH AND HUMAN SERVICES

Administration for Children and Families

Submission for OMB Review; Comment Request

Title: Parents and Children Together (PACT) Evaluation.

OMB No.: 0970-0403.

Description: The Office of Planning, Research and Evaluation (OPRE), Administration for Children and Families (ACF), U.S. Department of Health and Human Services (HHS), is proposing data collection activity as part of the Parents and Children Together (PACT) Evaluation. The objective of the PACT evaluation is to document and provide initial assessment of selected Responsible Fatherhood and Healthy Marriage grant programs that were authorized under the 2010 Claims Resolution Act. This information will be critical to informing decisions related to future investments in programming as well as the design and operation of such services.

PACT is utilizing three major, interrelated evaluation strategies: Impact evaluation; implementation evaluation; and qualitative evaluation. To collect data for these strategies, eighteen instruments have been approved to-date. This 30-Day Federal Register Notice covers two new instruments:

(19) Follow-up Survey (for Responsible Fatherhood study participants)

(20) Follow-up Survey (for Healthy Marriage study participants)

A more thorough description of the study and instruments was provided in a 60 Day Federal Register Notice posted in Vol. 78, No. 102, p. 31942 on May 28, 2013.

Respondents: Program applicants, program participants, program staff, and staff at referral agencies.

Annual Burden Estimates

This current 30-Day Federal Register Notice covers two new instruments:

Annual Burden: Current Request
Activity/respondent | Annual number of respondents | Number of responses per respondent | Average burden per response (hours) | Total annual burden hours
Responsible Fatherhood Grantee Impact Evaluation
(19) RF Follow-up survey
Study participants | 1,600 | 1 | 0.75 | 1,200
Healthy Marriage Grantee Impact Evaluation
(20) HM Follow-up survey
Study participants | 3,200 | 1 | 0.75 | 2,400
Total |  |  |  | 3,600

Estimated Total Annual Burden Hours (for instruments previously approved and currently in use, and those associated with this 30-Day Notice): 16,716.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Steven M. Hanmer,
OPRE Reports Clearance Officer.

[FR Doc. 2013-25128 Filed 10-24-13; 8:45 am]

BILLING CODE 4184-37-P